DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of intent to evaluate—rescheduled site visit and public meeting.

SUMMARY: The NOAA Office of Ocean and Coastal Resource Management (OCRM) announces a rescheduled site visit and time for a public meeting previously included in an announcement of intent to evaluate the performance of the Rhode Island Coastal Management Program. Notice was previously given in the Federal Register on Monday, December 7, 2009, of the date of the site visit for the evaluation of the Rhode Island Coastal Management Program and the date, local time, and location of the public meeting. Notice is hereby given of the rescheduled date for the site visit and local time of the public meeting during the site visit.

Date and Time: The Rhode Island Coastal Management Program evaluation site visit will be held February 22-26, 2010. One public meeting will be held during the week. The public meeting will be held on Wednesday, February 24, 2010, at 6 p.m. in Conference Room A, Department of Administration, One Capitol Hill, Providence, Rhode Island.

FOR FURTHER INFORMATION CONTACT: Kate Barba, Chief, National Policy and Evaluation Division, Office of Ocean and Coastal Resource Management, NOS/NOAA, 1305 East-West Highway, 10th Floor, Silver Spring, Maryland 20910, (301) 563-1182.

Dated: February 16, 2010.
Donna Wieting,
Acting Director, Office of Ocean and Coastal Resource Management, National Ocean Service, National Oceanic and Atmospheric Administration.

[FR Doc. 2010-3793 Filed 2-24-10; 8:45 am]

BILLING CODE 3510-08-P